SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before August 20, 2019.

ADDRESSES: Send all comments to Mary Frias, Loan Specialist, Office of Financial Assistance, Small Business Administration, 409 3rd Street, 8th Floor, Washington, DC 20416.

FOR FURTHER INFORMATION CONTACT: Mary Frias, Loan Specialist, Office of Financial Assistance, 202-401-8234, mary.frias@sba.gov, or Curtis B. Rich, Management Analyst, 202-205-7030, curtis.rich@sba.gov;

SUPPLEMENTARY INFORMATION: The Small Business Investment Act authorizes SBA to guarantee a debenture issued by a Certified Development Company (CDC). The proceeds from each debenture are used to fund loans to eligible small business concerns (“504 loans”). 15 U.S.C. 697(a). The Small Business Act and the Small Business Investment Act mandate that all guaranteed loans provided by the SBA to small business concerns (SBCs) must have a reasonable assurance of ability to repay. See 15 U.S.C. 636(a)(6) and 687(f); see also 13 CFR 120.150. The information collections described below—SBA Form 1244 and SBA Form 2450—are part of the application process for a 504 loan. SBA is proposing to make changes to Form 2450 to remove duplicative questions as well as questions that are no longer applicable to the 504 Loan Program.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collections

Title: Application for Section 504 Loan.

Description of Respondents: Small Business Concerns applying for a section 504 loan and Certified Development Companies.

(i) Form Number: SBA Form 1244, Application for Section 504 Loan. The information collected by this form is used to review the eligibility of the small business concern (SBC) for SBA financial assistance; the creditworthiness and repayment ability of the SBC; and the terms and conditions of the 504 loan for which the SBC is applying.

(ii) Form 2450 is the Eligibility Checklist used to document the 504 loan's eligibility based on program requirements. These forms are used by CDCs to request SBA's guarantee on each debenture.

SBA has established a streamlined loan application processing procedure known as the Abridged Submission Method (ASM). Under this process, the CDCs are required to collect and retain all exhibits to SBA Form 1244, but are only required to submit selective documents. CDCs using the non-ASM method are required to submit all documents and exhibits required for Form 1244. All CDCs must submit the Form 2450.

The burden estimates (based on the experience of the CDCs and SBA field offices) of the burden hours imposed by use of these forms, including exhibits, are as follows:

There are 260 CDCs affected by the information collection. The total number of small business concerns that will annually respond to Form 1244 is approximately 7,000 based on the average submission of applications submitted from CDCs over the past FY using both the ASM and non-ASM methods. This is a total of 7,260 respondents. Burden hours are 2.25 hours for ASM and 2.45 hours for non-ASM submissions (this number is slightly higher due to the fact that these respondents are required to submit more documentation than the ASM respondents). These estimates include the content from SBA Form 2450, which takes an estimated 15 minute for completion.

Form 1244

Total burden hours = 16,799.

Submission through the ASM—4,937 × 2.25 = 11,108 burden hours.

Submission through non-ASM (standard method)—2,323 × 2.45 = 5,691 burden hours.

Form 2450

Total burden hours = 1,815.

Submission through the ASM and non-ASM—7,260 × .25 = 1,815 burden hours.

Total Burden Hours = 18,614.

Curtis Rich,
Management Analyst.

[FR Doc. 2019-13284 Filed 6-20-19; 8:45 am]

BILLING CODE 8025-01-P